DEPARTMENT OF THE INTERIOR

Bureau of Indian Affairs

[245A2100DD/AAKC001030/A0A501010.999900]

Tejon Indian Tribe Liquor Control Ordinance

AGENCY: Bureau of Indian Affairs, Interior.

ACTION: Notice.

SUMMARY: This notice publishes the Liquor Control Ordinance of the Tejon Indian Tribe. The Tejon Indian Tribe Liquor Control Ordinance regulates and controls the possession, sale, manufacture, and distribution of alcohol in conformity with the laws of the State of California.

DATES: This ordinance shall become effective September 16, 2024.

FOR FURTHER INFORMATION CONTACT: Ms. Sarraye Forrest-Davis, Tribal Government Specialist, Pacific Regional Office, Bureau of Indian Affairs, 2800 Cottage Way, Room W-2820, Sacramento, California 95825, sarraye.forrest-davis@bia.gov, (916) 978-6000, Fax: (916) 978-6099.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country.

This notice is published in accordance with the authority delegated by the Secretary of the Interior to the Assistant Secretary—Indian Affairs. I certify that the Executive Committee of the Tejon Indian Tribe duly enacted the Liquor Control Ordinance on October 21, 2023.

Bryan Newland,
Assistant Secretary—Indian Affairs.

TEJON INDIAN TRIBE

LIQUOR CONTROL ORDINANCE

ENACTED: October 21, 2023

ARTICLE ONE. INTRODUCTION

Section 1. Authority

This Ordinance is enacted pursuant to the Act of August 15, 1953 (Pub. L. 83-277, 67 Stat. 586, 18 U.S.C. 1161) and by powers vested in the Tribal Executive Committee of the Tejon Indian Tribe (“Tribal Executive Committee”) to develop, adopt and enforce ordinances as authorized under Article VI, Section 3, of the Constitution and Bylaws of the Tejon Indian Tribe, adopted October 15, 2022.

Section 2. Purpose

The purpose of this Ordinance is to regulate and control the possession, sale, manufacture and distribution of liquor within Tribal Trust Lands, in order to permit alcohol sales by tribally owned and operated enterprises and private lessees, and at tribally approved special events. Enactment of a liquor control ordinance will help provide a source of revenue for the continued operation of the tribal government, the delivery of governmental services, and the economic viability of tribal enterprises.

Section 3. Short Title

This Ordinance shall be known and cited as the “Liquor Control Ordinance.”

Section 4. Jurisdiction

This Ordinance shall apply to all lands now or in the future under the governmental authority of the Tribe, including Tribal Trust Lands.

Section 5. Application of 18 U.S.C. 1161

By enacting this Ordinance, the Tribe hereby regulates the sale, manufacturing, distribution, and consumption of liquor while ensuring that such activity conforms with all applicable laws of the State of California as required by 18 U.S.C. 1161, other applicable Federal law, and the Compact.

ARTICLE TWO. DEFINITIONS

Section 1. Definitions

As used in this Ordinance, the terms below are defined as follows:

(a) Alcohol means ethyl alcohol, hydrated oxide of ethyl, or spirit of wine, in any form, and regardless of source or the process used for its production.

(b) Alcoholic beverage means all alcohol, spirits, liquor, wine, beer and any liquid or solid containing alcohol, spirits, liquor, wine, or beer, and which contains one-half of one percent or more of alcohol by volume and that is fit for human consumption, either alone or when diluted, mixed, or combined with any other substance(s).

(c) Compact means the Tribal-State compact between the State and the Tribe as may be amended from time to time or procedures prescribed by the Secretary of the Interior pursuant to 25 U.S.C. 2710(d)(7), under which the Tribe may conduct Class III gaming on “Indian lands” as such term is defined in the Indian Gaming Regulatory Act, 25 U.S.C. 2701, et seq..

(d) License means, unless otherwise stated, a license issued by the Tribe in accordance with this Ordinance.

(e) Liquor means any alcoholic beverage, as defined in this Section 1.

(f) Person means any individual or entity, whether Indian or non-Indian, receiver, assignee, trustee in bankruptcy, trust, estate, firm, corporation, partnership, joint corporation, association, society, or any group of individuals acting as a unit, whether mutual, cooperative, fraternal, non-profit or otherwise, and any other Indian tribe, band or group. The term shall also include the businesses of the Tribe.

(g) Sale and sell mean the transfer for consideration of any kind, including by exchange or barter.

(h) State means the State of California.

(i) Tribal Trust Lands means all lands held by the United States in trust for the Tribe now or in the future.

ARTICLE THREE. LIQUOR SALES, POSSESSION, & MANUFACTURE

Section 1. Possession of Alcohol

The introduction and possession of alcoholic beverages shall be lawful on Tribal Trust Lands; provided that such introduction or possession is in conformity with the laws of the State.

Section 2. Retail Sales of Alcohol

The sale of alcoholic beverages shall be lawful on Tribal Trust Lands; provided that such sales are in conformity with the laws of the State and are made pursuant to a license issued by the Tribe.

Section 3. Manufacture of Alcohol

The manufacture of liquor shall be lawful on Tribal Trust Lands, provided that such manufacture is in conformity with the laws of the State and pursuant to a license issued by the Tribe.

Section 4. Age Limits

The legal age for possession or consumption of alcohol on Tribal Trust Lands shall be the same as that of the State, which is currently 21 years. No person under the age of 21 years shall purchase, possess or consume any alcoholic beverage or be present in any area of the Tribe's gaming operation in which alcoholic beverages may be consumed, except to the extent permitted by State law. If there is any conflict between State law and the terms of the Compact regarding the age limits for alcohol possession or consumption, the age limits in the Compact shall govern for purposes of this Ordinance.

ARTICLE FOUR. LICENSING

Section 1. Licensing

The Tribal Executive Committee shall have the authority to require and issue liquor licenses (including, without limitation, retail, wholesale, manufacturer, special events licenses and any other type of liquor license recognized by State law) and shall have the power to establish and enforce procedures and standards for such licensing of liquor sales on Tribal Trust Lands, including the setting of a license fee schedule; provided that no tribal license shall be issued except upon showing of satisfactory proof that the applicant is duly licensed by the State. The fact that an applicant for a tribal license possesses a license issued by the State of the United States shall not provide the applicant with an entitlement to a tribal license. The Tribal Executive Committee may, in its discretion, set standards that are more, but in no case less, stringent than those of the State.

ARTICLE FIVE. ENFORCEMENT

Section 1. Enforcement

The Tribal Executive Committee shall have the power to develop, enact, promulgate, and enforce regulations as necessary for the enforcement of this Ordinance and to protect the public health, welfare, and safety of the Tribe, provided that all such regulations shall conform to, and not be in conflict with, any applicable tribal, Federal, or State law. Regulations enacted pursuant to this Ordinance may include provisions for suspension or revocation of tribal liquor licenses, reasonable search and seizure provisions, and civil and criminal penalties for violations of this Ordinance to the full extent permitted by Federal law and consistent with due process.

Tribal law enforcement personnel and security personnel duly authorized by the Tribal Executive Committee shall have the authority to enforce this Ordinance by confiscating any liquor sold, possessed, distributed, manufactured, or introduced within Tribal Trust Lands in violation of this Ordinance or of any regulations duly adopted pursuant to this Ordinance to the full extent permitted by tribal, Federal, and State law and consistent with due process.

The Tribal Executive Committee shall have the exclusive jurisdiction to hold hearings on violations of this Ordinance and any procedures or regulations adopted pursuant to this Ordinance; to promulgate appropriate procedures governing such hearings; to determine and enforce penalties or damages for violations of this Ordinance; and to delegate to a subordinate hearing officer or panel the authority to take any or all of the foregoing actions on its behalf.

ARTICLE SIX. TAXES

Section 1. Taxation

Nothing contained in this Ordinance is intended to, nor does it in any way, limit or restrict the Tribe's ability to impose any tax upon the sale or consumption of liquor. The Tribe retains the right to impose such taxes by appropriate Ordinance to the fullest extent permitted by Federal law.

ARTICLE SEVEN. MISCELLANEOUS PROVISIONS

Section 1. Sovereign Immunity Preserved

Nothing contained in this Ordinance is intended to, nor shall it be construed in any way to waive, limit, alter, or restrict the sovereign immunity of the Tribe or any of its agencies, agents or officials from unconsented suit or action of any kind.

Section 2. Conformity With Applicable Laws

All acts and transactions under this Ordinance shall be in conformity with the Compact and laws of the State to the extent required by 18 U.S.C. 1161 and with all Federal laws regarding alcohol in Indian Country.

Section 3. Effective Date

This Ordinance shall be effective as of the date on which the Secretary of the Interior certifies this Ordinance and publishes the same in the Federal Register.

Section 4. Repeal of Prior Acts

All prior Tribal laws, resolutions, policies, regulations, or ordinances pertaining to the subject matter set forth in this Ordinance and to the extent they are inconsistent with this Ordinance, are hereby repealed.

Section 5. Amendments

This Ordinance may only be amended pursuant to an amendment duly enacted by the Tribal Executive Committee and, to the extent required by Federal law, certification by the Secretary of the Interior and publication in the Federal Register.

Section 6. Severability and Savings Clause

If any section, part or provision of this Ordinance is held invalid, void, or unenforceable by a court of competent jurisdiction, such adjudication shall not be held to render the remaining sections, parts and provisions of this Ordinance invalid, void or unenforceable and the remainder of this Ordinance shall not be affected and shall continue in full force and effect.

[FR Doc. 2024-18380 Filed 8-15-24; 8:45 am]

BILLING CODE 4337-15-P